DEPARTMENT OF ENERGY

Extension of the Public Comment Period for the Draft Environmental Assessment for the Commercial Disposal of Defense Waste Processing Facility Recycle Wastewater From the Savannah River Site

AGENCY: Office of Environmental Management, U.S. Department of Energy.

ACTION: Extension of public comment period.

SUMMARY: The U.S. Department of Energy (DOE) is extending the public comment period for the request of public comments on the Draft Environmental Assessment for the Commercial Disposal of Defense Waste Processing Facility Recycle Wastewater from the Savannah River Site (DOE/EA-2115) (Draft SRS DWPF Recycle Wastewater EA). DOE published a notice in the Federal Register on December 10, 2019, establishing a 30-day public comment period ending on January 9, 2020. DOE is extending the public comment period for 32 days, ending on February 10, 2020.

DATES: The comment period for the Notice published on December 10, 2019 (84 FR 67438) is extended. DOE will consider all comments received or postmarked by February 10, 2020.

ADDRESSES: Please direct written comments on the Draft DWPF SRS Recycle Wastewater EA to:

(a) Email: DWPFEA@em.doe.gov. Please submit comments in MicrosoftTM Word or PDF file format and avoid the use of encryption.

(b) Mail: James Joyce, U.S. Department of Energy, Office of Environmental Management, EM-4.21, 1000 Independence Avenue SW, Washington, DC 20585.

Because your comments will be made public, you are solely responsible for ensuring that your comments do not include any confidential information that you or a third party may not wish to be posted.

FOR FURTHER INFORMATION CONTACT: For information related to Draft SRS DWPF Recycle Wastewater EA, please contact James Joyce, U.S. Department of Energy, Office of Environmental Management, Office of Waste and Materials Management (EM-4.2), 1000 Independence Avenue SW, Washington, DC 20585. Email: DWPFEA@em.doe.gov. Telephone: (301) 903-2151. For information related to DOE's high-level radioactive waste (HLW) interpretation, please contact Theresa Kliczewski, U.S. Department of Energy, Office of Environmental Management, Office of Waste and Materials Management (EM-4.2), 1000 Independence Avenue SW, Washington, DC 20585. Email: Theresa.Kliczewski@em.doe.gov.

SUPPLEMENTARY INFORMATION: On December 10, 2019, DOE published a notice in the Federal Register (84 FR 67438) on the publication of the Draft SRS DWPF Recycle Wastewater EA. The Draft SRS DWPF Recycle Wastewater EA evaluates the potential impacts from a proposed action to retrieve, stabilize, and dispose of up to 10,000 gallons of Defense Waste Processing Facility (DWPF) recycle wastewater from Savannah River Site (SRS) at a commercial low-level radioactive waste disposal facility located outside of South Carolina, licensed by either the Nuclear Regulatory Commission (NRC) or an Agreement State under NRC's regulations regarding licensing requirements for land disposal of radioactive waste. If implemented, this proposal would provide alternative treatment and disposal options for up to 10,000 gallons of DWPF recycle wastewater through the use of existing, licensed, off-site commercial facilities.

DOE has determined that an extension of the public comment period on the Draft SRS DWPF Recycle Wastewater EA is appropriate, and is hereby extending the comment period an additional 32 days with the public comment period ending on February 10, 2020.

Signed at Washington, DC, on December 20, 2019.
Mark S. Senderling,
Deputy Assistant Secretary for Waste and Materials Management, Office of Regulatory and Policy Affairs, Office of Environmental Management, U.S. Department of Energy.

[FR Doc. 2019-28224 Filed 12-27-19; 8:45 am]

BILLING CODE 6450-01-P